DEPARTMENT OF THE INTERIOR

Bureau of Land Management

[AZA 32377]

Notice of Proposed Withdrawal and Opportunity for Public Meeting; Arizona

AGENCY: Bureau of Land Management, Interior.

ACTION: Notice.

SUMMARY: The United States Forest Service proposes to withdraw approximately 2,070 acres of National Forest System lands to protect the unique environmental, biological, geological, hydrological, archaeological, paleontological, cultural, and recreational values of various caves on the Coronado National Forest. This notice segregates the lands for up to 2 years from location and entry under the United States mining laws. The lands will remain open to all other uses which may by law be made of National Forest System land.

DATES: Comments should be received on or before July 28, 2003.

ADDRESSES: Comments should be sent to the Forest Supervisor, Coronado National Forest, 300 W. Congress, Tucson, AZ 85701.

FOR FURTHER INFORMATION CONTACT: Beverley Everson, Coronado National Forest, 300 W. Congress, Tucson, AZ 85701, (520) 670-4571.

SUPPLEMENTARY INFORMATION: The Forest Service proposes to withdraw the following described National Forest System lands from location and entry under the United States mining laws, subject to valid existing rights:

Coronado National Forest

Gila and Salt River Meridian

T. 20 S., R. 14 E.,

Sec. 18, SW¼;

Sec. 19, NW¼.

T. 20 S., R. 15 E.,

Sec. 1, excepting that portion within MS 3115 (SW¼NW¼SW¼, NW¼SW¼SW¼, E½SW¼SW¼, and SW¼SE¼SW¼).

T. 23 S., R. 20 E.,

Sec. 22, SE¼NW¼, NE¼SW¼, NW¼SE¼, and SW¼NE¼;

Sec. 32, NE¼SE¼, SE¼SE¼, SW¼SE¼, NE¼NW¼SE¼, SE¼NW¼SE¼, SW¼NW¼SE¼, SE¼SE¼NE¼, SW¼SE¼NE¼, SE¼SW¼NE¼, NE¼SE¼SW¼, and SE¼SE¼SW¼, excluding those portions withdrawn by P.L. No. 98-406 within the Miller Peak Wilderness;

Sec. 33, SE¼, SE¼SE¼NE¼, SW¼SE¼NE¼, SE¼SW¼NE¼, SW¼SW¼NE¼, SW¼SW¼NW¼, SW¼SW¼, SE¼SW¼, SE¼NE¼SW¼, SW¼NE¼SW¼, NW¼NW¼SW¼, SW¼NW¼SW¼, and SE¼NW¼SW¼, excluding those portions withdrawn by P.L. No. 98-406 within the Miller Peak Wilderness.

T. 18 S., R. 23 E.,

Sec. 2, SW¼NE¼ and SE¼NW¼.

T. 15 S., R. 30 E.,

Sec. 20, SE¼ SE¼, NE¼SE¼, SW¼SE ¼, NW¼SE¼, SE¼NE¼, NE¼NE¼, and SE¼NW¼NE¼, excepting those portions within HES 283.

T. 18 S., R. 31 E.,

Sec. 6, SE¼SW¼ and SW¼SW¼.

The areas described aggregate approximately 2,070 acres in Cochise and Santa Cruz Counties.

All persons who wish to submit comments, suggestions, or objections in connection with the proposed withdrawal may present their views in writing, by the date specified above, to the Forest Supervisor of the Coronado National Forest.

Notice is hereby given that an opportunity for a public meeting is afforded in connection with the proposed withdrawal. All interested persons who desire a public meeting for the purpose of being heard on the proposed withdrawal must submit a written request to the Forest Supervisor of the Coronado National Forest, within 90 days from the date of publication of this notice. Upon determination by the authorized officer that a public meeting will be held, a notice of the time and place will be published in the Federal Register and a newspaper at least 30 days before the scheduled date of the meeting.

The application will be processed in accordance with the regulations set forth in 43 CFR 2300.

For a period of 2 years from the date of publication of this notice in the Federal Register, the lands will be segregated as specified above unless the application is denied or canceled or the withdrawal is approved prior to that date.

Dated: March 20, 2003.
Steven J. Gobat,
Acting Deputy State Director, Resources Division.

[FR Doc. 03-10436 Filed 4-28-03; 8:45 am]

BILLING CODE 3410-11-P